DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance for the Period March 21, 2007 Through April 20, 2007
Firm | Address | Date petition accepted | Product
Romarc Corporation | 32 Appletree Lane, Plumsteadville, PA 18949 | 3/30/2007 | Sheet plastic and structural foam.
Dakota Granite Company | 14964 484th Ave., Milbank, SD 57252 | 4/13/2007 | Cut stone.
Nisbet Oyster Co., Inc | PO Box 338, 7081 Niawaukum St. Hwy 101, Bay Center, WA 98527 | 4/2/2007 | Shucked fresh oysters.
TMI Industries, Inc | PO Box 968, 25 Ware Road, Palmer, MA 01069 | 3/27/2007 | Machine braided and hand hooked rugs.
Wirefab, Inc | 75 Blackstone River Road, Worcester, MA 01607 | 3/29/2007 | Custom steel wire products in hospitality markets.
Lakeshore Technologies, Inc | 7536 Murray Drive, Cicero, NY 13039 | 3/28/2007 | Medical imaging processing systems and cameras.
Pecos Cantaloupe Shed, Inc | 2101 Bickley Avenue, Pecos, TX 79772 | 4/19/2007 | Sale and marketing of cantaloupes.
Liberty Hearth, Inc | 301 Locust Ave., Oakdale, NY 11769 | 4/18/2007 | Frozen baked bagels.
Foulke Family Farm | P.O. Box 64, 12145 Elkins Rd., Monmouth, OR 97361 | 4/17/2007 | Hazelnuts in the shell.
Dakota Lettering, Inc | 3400 South Sheldon Lane, Sioux Falls, SD 57105 | 4/18/2007 | Custom apparel designs with screen printing on fabric articles and embroidery advertising.
Tiyoda Serec Corporation | 342 Compass Circle, Unit 2, N. Kingstown, RI 02852 | 4/18/2007 | Precision and industrial cleaning machinery.
Snokist Growers | 12 West Mead, P.O. Box 1587, Yakima, WA 98907-1587 | 4/19/2007 | Canned pears.
Eastman Hill Holdings, Inc | 70 Ingersoll Drive, Portland, Maine 04103 | 4/19/2007 | Professional grade lawn and landscaping equipment.
Software Services Group, Ltd. Dba ISODISC | 7030 North 97th Plaza Circle, Omaha, NE 68122 | 4/19/2007 | Magnetic and optical discs.
P.W. Minor & Son, Inc | 3 Treadeasy Avenue, Batavia, NY 14021-0678 | 4/19/2007 | Manufacture of Orthopedic Shoes.
Wening Enterprises, Inc | 201 E. Industrial Drive, New Haven, MO 63068 | 4/19/2007 | Tractor trailer suspension parts and sunroofs.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in § 315.9 of EDA's final rule (71 FR 56704) for procedures for requesting a public hearing. The Catalog of Federal Domestic Assistance official program number and title of the program under which these petitions are submitted is 11.313, Trade Adjustment Assistance.

Dated: April 24, 2007.
William P. Kittredge,
Program Officer for TAA.

[FR Doc. 07-2100 Filed 4-27-07; 8:45 am]

BILLING CODE 3510-24-M